DEPARTMENT OF LABOR

Bureau of International Labor Affairs; U.S. National Administrative Office National Advisory Committee for the North American Agreement on Labor Cooperation; Notice of Cancellation of Meeting

AGENCY: Office of the Secretary, Labor.

ACTION: Cancellation of meeting.

SUMMARY: Notice of Cancellation of Meeting Scheduled for November 24, 2003.

The U.S. National Administrative Office hereby cancels the meeting of the National Advisory Committee for the North American Agreement on Labor Cooperation scheduled for November 24, 2003. This meeting was previously announced in the Federal Register of November 6, 2003 (68 F.R. 62831).

FOR FURTHER INFORMATION CONTACT: Lewis Karesh, designated Federal Officer, U.S. NAO, Bureau of International Labor Affairs, U.S. Department of Labor, 200 Constitution Avenue, NW, Room S-5205, Washington, DC 20210. Telephone 202-693-4900 (this is not a toll free number).

Signed at Washington, DC, on November 14, 2003.
Lewis Karesh,
Acting Director, U.S. National Administrative Office.

[FR Doc. 03-28999 Filed 11-19-03; 8:45 am]

BILLING CODE 4510-28-P